CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Public Law 104-13, (44 U.S.C. Chapter 35). Copies of this ICR, with applicable supporting documentation, may be obtained by calling the Corporation for National and Community Service, Ms. Rhonda Taylor, at (202) 606-5000, extension 282, (rtaylor@cns.gov); (TTY/TDD) at (202) 606-5256 between the hours of 9 a.m. and 4 p.m. eastern standard time, Monday through Friday.

Comments may be submitted, identified by the title of the information collection activity, by any of the following two methods within 30 days from the date of publication in this Federal Register:

(1) By fax to: (202) 395-6974, Attention: Ms. Fumie Yokota, OMB Desk Officer for the Corporation for National and Community Service; and

(2) Electronically by e-mail to: Fumie_Yokota@omb.eop.gov.

The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Description

The President's Council on Service and Civic Participation was created by Executive Order 13285 on January 29, 2003. The Council is administered by the Corporation for National and Community Service. Under the Executive Order, the Council is directed to (among other things) design and recommend programs to recognize individuals, schools, and organizations that excel in their efforts to support volunteer service and civic participation, especially with respect to students in primary schools, secondary schools, and institutions of higher learning. The Council will bestow the President's Volunteer Service Award to meet this requirement. In order to recognize individuals, schools and organizations, the program must collect information about the individuals and organizations and their activities to verify that they have earned the award.

The information collected will be used by the program primarily to select winners of the President's Volunteer Service Awards and the Call to Service Awards (4,000 hours or more.) Individuals or organizations can be nominated by an organization. The nominations will be reviewed for compliance by the administering agency, and awards will be made on that basis. Information also will be used to assure the integrity of the program (so that, for example, an individual or organization does not receive an award twice for the same project), for reporting on the accomplishments of the program, for the public awareness campaign (such as press releases and website information on winning projects), and to further the purposes of the Executive Order (such as fostering partnerships and coordination of projects and to promote civic engagement).

Currently, the Corporation is soliciting comments concerning the President's Volunteer Service Awards (PVSA), parts A, B, C, D and E.

Type of Review: Renewal.

Agency: Corporation for National and Community Service.

Title: President's Volunteer Service Awards, parts A, B, C, D and E.

OMB Number: 3045-0086.

Agency Number: None.

Affected Public: All citizens of the United States.

Total Respondents: 200,000.

Frequency: On occasion.

Average Time Per Response: 20 minutes.

Estimated Total Burden Hours: 100,000 hours.

Total Burden Cost (capital/startup): 1,654,000.

Total Burden Cost (operating/maintenance): None.

Dated: January 9, 2004.
Barbara A. Taylor,
Director, Office of Public Affairs.

[FR Doc. 04-798 Filed 1-13-04; 8:45 am]

BILLING CODE 6050-$$-P